ENVIRONMENTAL PROTECTION AGENCY

[ER-FRL-9027-2]

Environmental Impact Statements; Notice of Availability

Responsible Agency: Office of Federal Activities, General Information (202) 564-7146 or http://www2.epa.gov/nepa.

Weekly receipt of Environmental Impact Statements (EISs)

Filed 05/16/2016 through 05/20/2016

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20160110, Draft, USFS, CA, Revision of the Inyo, Sequoia and Sierra National Forests Land Management Plans, Comment Period Ends: 08/25/2016, Contact: Debra Whitall 707-562-9121.

EIS No. 20160111, Draft, TVA, TN, Bull Run Fossil Plant Landfill, Comment Period Ends: 07/12/2016, Contact: Anita Masters 423-751-8697.

Dated: May 24, 2016.
Dawn Roberts,
Management Analyst, NEPA Compliance Division, Office of Federal Activities.

[FR Doc. 2016-12590 Filed 5-26-16; 8:45 am]

BILLING CODE 6560-50-P